DEPARTMENT OF THE INTERIOR

Fish and Wildlife Service

[FWS-R2-ES-2012-N301; FXES11130200000-134-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before March 27, 2013.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-022190

Applicant: Arizona-Sonora Desert Museum, Tucson, Arizona.

Applicant requests an amendment to a current permit for research and recovery purposes to conduct pollination on 36 individual adult Arizona hedgehog cactus (Echinocereus arizonicus) on Apache County and Cochise County, Arizona.

Permit TE-103480

Applicant: Carianne Campbell, Tucson, Arizona.

Applicant requests a renewal to a current permit for research and recovery purposes to conduct presence/absence surveys of Sonora tiger salamander (Ambystoma tigrinum stebbinsi), loach minnow (Tiaroga cobitis), and spikedace (Mega fulgida) within Arizona.

Permit TE-92222A

Applicant: Elena Pinto-Torres, Austin, Texas.

Applicant requests a new permit for research and recovery purposes to conduct presence/absence surveys of golden-cheeked warblers (Dendroica chrysoparia) and black-capped vireos (Vireo atricapilla) within Texas.

Permit TE-92364A

Applicant: Patricia Ramirez, Austin, Texas.

Applicant requests a new permit for research and recovery purposes to conduct presence/absence surveys of golden-cheeked warblers (Dendroica chrysoparia) and black-capped vireos (Vireo atricapilla) within Texas.

Permit TE-43777A

Applicant: Sea Life US, LLC, Grapevine, Texas.

Applicant requests an amendment to a current permit for husbandry and holding of hawksbill sea turtles (Eretmochelys imbricata) within Sea Life Aquarium, Grapevine, Texas.

Permit TE-92366A

Applicant: Kimley-Horn and Associates, Inc., Dallas, Texas.

Applicant requests a new permit for research and recovery purposes to conduct presence/absence surveys of interior least tern (Sterna antillarum) within Texas.

Permit TE-92407A

Applicant: Raven Environmental Services, Inc., Huntsville, Texas.

Applicant requests a new permit for research and recovery purposes to conduct presence/absence surveys of red-cockaded woodpecker (Picoides borealis) within Alabama, Arkansas, Florida, Georgia, Louisiana, Mississippi, Missouri, North Carolina, South Carolina, and Virginia.

Permit TE-88519A

Applicant: Texas Tech University, Lubbock,Texas.

Applicant requests a renewal to a current permit for research and recovery purposes to conduct presence/absence surveys and collect voucher specimens of the following species within Texas and New Mexico:

• Roswell springsnail (Pyrgulopsis roswellensis)

• Koster's springsnail (Juturnia kosteri)

• Pecos assiminea snail (Assiminea pecos)

• Noel's amphipod (Gammarus desparatus)

Permit TE-93447A

Applicant: San Antonio Zoo, San Antonio, Texas.

Applicant requests a new permit for research and recovery purposes to collect up to 500 individual Devils River minnow (Dionda diabolic) from Pinto Creek, Texas and relocate to the San Antonio Zoo for husbandry and captive propagation.

Permit TE-207893

Applicant: Robert Edwards, Edinburg, Texas.

Applicant requests a new permit for research and recovery purposes to conduct presence/absence surveys of and capture and release using non invasive techniques such as seining and minnow traps of the following species within Texas:

• Big Bend gambusia (Gambusia gaigei)

• Clear Creek gambusia (Gambusia herochir)

• Comanche Springs pupfish (Cyprinodon elegans)

• Devils River minnow (Dionda diaboli)

• Fountain darter (Etheostoma fonticola)

• Leon Springs pupfish (Cyprinodon bovinus)

• Pecos gambusia (Gambusia nobilis)

• Rio Grande silvery minnow (Hybognathus amarus)

• San Marco gambusia (Gambusia georgei)

Permit TE-64710A

Applicant: Jacob Jackson, Austin, Texas.

Applicant requests a new permit for research and recovery purposes to conduct presence/absence surveys and salvage of Houston toad (Bufo houstonensis) within Texas.

Permit TE-109028

Applicant: Susan Courage, San Antonio, Texas.

Applicant requests a new permit for research and recovery purposes to conduct presence/absence surveys and salvage of black-capped vireo (Vireo atricapilla) and golden-cheeked warbler (Dendroica chrysoparia) within Texas.

Permit TE-052634

Applicant: New Mexico Environment Department, Surface Water Quality Bureau, Santa Fe, New Mexico.

Applicant requests a renewal to a current permit for research and recovery purposes to conduct presence/absence surveys of Rio Grande silvery minnow (Hybognathus amarus), loach minnow (Tiaroga cobitis), and spikedace (Mega fulgida) within New Mexico.

Permit TE-94766A

Applicant: Carmen Greenwood, Oklahoma State University, Stillwater, Oklahoma.

Applicant requests a new permit for research and recovery purposes to conduct presence/absence surveys, trap and relocate activities and other research activities for the American burying beetle (Nicrophorus americanus) within Oklahoma.

Permit TE-001623

Applicant: American Southwest Ichthyological Researchers, LLC., Albuquerque, New Mexico.

Applicant requests an amendment to a current permit for research and recovery purposes to conduct population studies of razorback sucker (Xyrauchen texanus) and humpback chub (Gila cypha) in the lower Colorado River, Grand Canyon National Park, Arizona.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Date: February 13, 2013.
Joy E. Nicholopoulos,
Acting Regional Director, Southwest Region.

[FR Doc. 2013-04225 Filed 2-22-13; 8:45 am]

BILLING CODE 4310-55-P